DEPARTMENT OF ENERGY

Federal Energy Regulatory Commission

Third Supplemental Notice of Technical Conference

| Docket Nos.
Increasing Market and Planning Efficiency and Enhancing Resilience through Improved Software | AD10-12-011
New York Independent System Operator, Inc | ER19-467-000 ER19-467-001 ER19-467-002 ER19-467-003 ER19-467-004
ISO New England Inc | ER19-470-000 ER19-470-001 ER19-470-002 ER19-470-003 ER19-470-004
California Independent System Operator Corporation | ER19-468-000 ER19-468-001 ER19-468-002
Midcontinent Independent System Operator, Inc | ER19-465-000 ER19-465-001 ER19-465-002 ER19-465-003
Southwest Power Pool, Inc | ER19-460-000 ER19-460-001 ER19-460-002 ER19-460-003 ER19-460-004 ER19-460-005
PJM Interconnection, L.L.C | ER19-469-000 ER19-469-001

As previously announced,¹ Federal Energy Regulatory Commission staff will hold an online technical conference on June 23-25, 2020 to discuss increasing market and planning efficiency and enhancing resilience through improved software.

¹ Notice of Technical Conference issued on February 14, 2020 (February 14 Notice), Docket No. AD10-12-011; Supplemental Notice of Technical Conference issued on April 7, 2020 (April 7 Notice), Docket No. AD10-12-011; Agenda issued June 15, 2020 (June 15 Agenda), Docket No. AD10-12-011.

The June 15 Agenda provided a list of presentations scheduled to be given at the conference. While the intent of the technical conference is not to focus on any specific matters before the Commission, some conference participants have submitted presentations that focus on topics related to energy storage. These topics include state-of-charge management, which is at issue in proceedings that are currently pending before the Commission. These proceedings include the following:

New York Independent System Operator, Inc., Docket No. ER19-467-000, ER19-467-001, ER19-467-002, ER19-467-003, ER19-467-004

ISO New England, Inc., Docket No. ER19-470-000, ER19-470-001, ER19-470-002, ER19-470-003, ER19-470-004

California Independent System Operator Corporation, Docket No. ER19-468-000, ER19-468-001, ER19-468-002

Midcontinent Independent System Operator, Inc., Docket No. ER19-465-000, ER19-465-001, ER19-465-002, ER19-465-003

Southwest Power Pool, Inc., Docket No. ER19-460-000, ER19-460-001, ER19-460-002, ER19-460-003, ER19-460-004, ER19-460-005

PJM Interconnection, L.L.C., Docket No. ER19-469-000, ER19-469-001

As noted in the February 14 notice and in the April 7 notice, the technical conference will not be transcribed and the WebEx will not be recorded. However, listening to or participating in the technical conference is open to the public (noting the registration requirement discussed below) and free of charge. Furthermore, the slides presented at the conference will be published in Docket No. AD10-12-011, and the presentations related to energy storage will be published in the above listed dockets concerning Order No. 841 compliance.

Finally, to facilitate participation by interested parties, the deadline for attendees to register for the conference is extended to 5:00 p.m. EDT on June 22, 2020. Attendees must register through the Commission's website by that deadline to ensure a WebEx connection is available.²

² The attendee registration form is located at https://www.ferc.gov/whatsnew/registration/real-market-6-23-20-form.asp.

For further information, please contact individuals identified for each topic:

Technical Information for Docket No. AD10-12-011: Alexander Smith, Office of Energy Policy and Innovation, Federal Energy Regulatory Commission, 888 First Street NE, Washington, DC 20426, (202) 502-6601, alexander.smith@ferc.gov.

Logistical Information: Sarah McKinley, Office of External Affairs, Federal Energy Regulatory Commission, 888 First Street NE, Washington, DC 20426, (202) 502-8368, sarah.mckinley@ferc.gov.

Dated: June 17, 2020.
Nathaniel J. Davis, Sr.,
Deputy Secretary.

[FR Doc. 2020-13474 Filed 6-22-20; 8:45 am]

BILLING CODE 6717-01-P